DEPARTMENT OF THE INTERIOR

National Park Service

[NPS-WASO-NRNHL-DTS#-40999; PPWOCRADI0, PCU00RP14.R50000]

National Register of Historic Places; Notification of Pending Nominations and Related Actions

AGENCY: National Park Service, Interior.

ACTION: Notice.

SUMMARY: The National Park Service is soliciting electronic comments on the significance of properties nominated before August 16, 2025, for listing or related actions in the National Register of Historic Places.

DATES: Comments should be submitted electronically by October 7, 2025.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 2013, Washington, DC 20240.

FOR FURTHER INFORMATION CONTACT: Sherry A. Frear, Chief, National Register of Historic Places/National Historic Landmarks Program, 1849 C Street NW, MS 2013, Washington, DC 20240, sherry_frear@nps.gov, 202-913-3763.

SUPPLEMENTARY INFORMATION: The properties listed in this notice are being considered for listing or related actions in the National Register of Historic Places. Nominations for their consideration were received by the National Park Service before August 16, 2025. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

Key: State, County, Property Name, Multiple Name (if applicable), Address/Boundary, City, Vicinity, Reference Number.

DISTRICT OF COLUMBIA

District of Columbia

Marist College, 405 Fort Slemmer Drive NE (3875 Harewood Road NE), Washington, SG100012260

FLORIDA

Sarasota County

Lamolithic Historic District (Sarasota School of Architecture MPS), 5528, 5540, 5544, and 5546 Avenida Del Mare, Sarasota, MP100012256

IDAHO

Clearwater County

Weippe Community Hall, 216 East First Street, Weippe, SG100012272

MARYLAND

Anne Arundel County

MD 214 over Patuxent River Bridge (Historic Highway Bridges of Maryland, 1694-1965 MPS), MD 214 over Patuxent River, Davidsonville, MP100012266

Baltimore INDEPENDENT CITY

Baltimore American Indian Center and Heritage Museum (American Indian Heritage in Baltimore City, 1885 to Present (2025) MPS), 113 S Broadway, Baltimore, MP100012255

MISSISSIPPI

Hinds County

Provine Chapel, 200 West College Street, Clinton, SG100012264

Tallahatchie County

Mitchell and McLendon General Merchants, 1027 Jackson Ave., Enid, SG100012270

MONTANA

Roosevelt County

Makaicu Church, BIA Route 4, Brockton vicinity, SG100012268

SOUTH CAROLINA

Richland County

Richland County Health Center, 1221 Gregg Street, Columbia, SG100012269

TEXAS

Brewster County

Grandview Courts-Siesta Motel, 1200 East Holland Avenue, Alpine, SG100012263

A request for removal has been made for the following resource(s):

NORTH DAKOTA

Cass County

Great Northern Freight Warehouse, 420 N. Seventh St., Fargo, OT90001749

Additional documentation has been received for the following resource(s):

ARIZONA

Pima County

Indian Ridge Historic District, 2648 N Indian Ridge Dr., Tucson, AD10000467

KANSAS

Douglas County

Old West Lawrence Historic District, Bounded roughly by Tennessee, 8th, Indiana, and 6th Sts., Lawrence, AD72000494

OHIO

Fairfield County

Lancaster Historic District, Roughly bounded by 5th Ave., Penn Central RR tracks, OH 33 and Tennant St., Lancaster, AD83003438

WISCONSIN

Columbia County

Portage Canal, Between Fox and Wisconsin Rivers, Portage, AD77000030

Authority: Section 60.13 of 36 CFR part 60.

Sherry A. Frear,
Chief, National Register of Historic Places/National Historic Landmarks Program.

[FR Doc. 2025-18246 Filed 9-19-25; 8:45 am]

BILLING CODE 4312-52-P